NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 1, 2012. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application: 2013-019

1. Applicant: Lockheed Martin IS&GS, Antarctic Support Contract, 7400 S. Tucson Way, Centennial, CO 80112-3938.

Activity for Which Permit Is Requested

Enter Antarctic Specially Protected Areas. The applicant plans to enter ASPA 105-Beaufort Island, ASPA 121-Cape Royds, ASPA 122-Arrival Heights, ASPA 124-Cape Crozier, ASPA 130-Transway Ridge, ASPA 131-Canada Glacier, ASPA 137-Northwest White Island, ASPA 138-Linnaeus Terrace, and, ASPA 154-Botany Bay to conduct a review of their management plans. The Antarctic Support Contract (ASC) Environmental Health and Safety (EHS) Department would enter the ASPA's to collect information on site status in anticipation of the 5 year ASPA review, general management and maintenance concerns such as ensuring that all signs and boundary markers are legible and secured, or to address any environmental concerns or potential environmental release with the ASPA. Information would be gathered on any installations or facilities that may be present, verify that the reasons for special protection remain valid, verify that the management measures in place are sufficient to provide protection, and, recommend any management measures that may be necessary to maintain the values being protected. The plan revisions will take into account recent developments within the Antarctic Treaty System to ensure consistency with recently adopted plans, policies and guidelines amongst the Treaty Nations.

Location

ASPA 105-Beaufort Island, ASPA 121-Cape Royds, ASPA 122-Arrival Heights, ASPA 124-Cape Crozier, ASPA 130-Transway Ridge, ASPA 131-Canada Glacier, ASPA 137-Northwest White Island, ASPA 138-Linnaeus Terrace, and, ASPA 154-Botany Bay.

Dates

August 15, 2012 to August 31, 2017.

Nadene G. Kennedy,
Permit Officer, Office of Polar Programs.

[FR Doc. 2012-21604 Filed 8-30-12; 8:45 am]

BILLING CODE 7555-01-P